ENVIRONMENTAL PROTECTION AGENCY

[FRL-9293-1; Docket ID No. EPA-HQ-ORD-2010-0540]

Draft Toxicological Review of Hexavalent Chromium: In Support of Summary Information on the Integrated Risk Information System (IRIS)

AGENCY: Environmental Protection Agency (EPA).

ACTION: Notice of Peer Review Workshop.

SUMMARY: EPA is announcing that Eastern Research Group, Inc., an EPA contractor for external scientific peer review, will convene an independent panel of experts and organize and conduct an external peer review workshop to review the draft human health assessment titled, “Toxicological Review of Hexavalent Chromium: In Support of Summary Information on the Integrated Risk Information System (IRIS)” (EPA/635/R-10/004C). The draft assessment was prepared by the National Center for Environmental Assessment (NCEA) within the EPA Office of Research and Development.

EPA is releasing this draft assessment solely for the purpose of pre-dissemination peer review under applicable information quality guidelines. This draft assessment has not been formally disseminated by EPA. It does not represent and should not be construed to represent any Agency policy or determination.

Eastern Research Group, Inc. invites the public to register to attend this workshop as observers. In addition, Eastern Research Group, Inc. invites the public to give brief oral comments and/or provide written comments at the workshop regarding the draft assessment under review. Space is limited, and reservations will be accepted on a first-come, first-served basis. In preparing a final report, EPA will consider the Eastern Research Group, Inc., report of the comments and recommendations from the external peer review workshop and any written public comments that EPA receives in accordance with this notice.

DATES: The peer review panel workshop on the draft assessment for Hexavalent Chromium will be held on May 12, 2011, beginning at 8:30 a.m. and end at 5 p.m. Eastern Time.

ADDRESSES: The draft “Toxicological Review of Hexavalent Chromium: In Support of Summary Information on the Integrated Risk Information System (IRIS)” is available primarily via the Internet on the NCEA home page under the Recent Additions and Publications menus at http://www.epa.gov/ncea. A limited number of paper copies are available from the Information Management Team (Address: Information Management Team, National Center for Environmental Assessment (Mail Code: 8601P), U.S. Environmental Protection Agency, 1200 Pennsylvania Avenue, NW., Washington, DC 20460; telephone: 703-347-8561; facsimile: 703-347-8691). If you request a paper copy, please provide your name, mailing address, and the draft assessment title.

The peer review workshop on the draft Hexavalent Chromium assessment will be held at Hilton Crystal City Hotel; 2399 Jefferson Davis Highway; Arlington, VA 22202. To attend the workshop, register no later than May 5, 2011, by calling Eastern Research Group, Inc. at 781-674-7374 or toll free at 800-803-2833 (ask for the Hexavalent Chromium peer review coordinator, Laurie Waite); sending a facsimile to 781-674-2906 (reference the “Hexavalent Chromium Peer Review Workshop” and include your name, title, affiliation, full address and contact information), or sending an e-mail to meetings@erg.com (reference the “Hexavalent Chromium Peer Review Workshop” and include your name, title, affiliation, full address and contact information). You can also register via the Internet at https://www2.ergweb.com/projects/conferences/peerreview/register-hexavalent.htm. There will be a limited time at the peer review workshop for comments from the public. Please inform Eastern Research Group, Inc. if you wish to make comments during the workshop.

Information on Services for Individuals with Disabilities: EPA welcomes public attendance at the “Hexavalent Chromium Peer Review Workshop” and will make every effort to accommodate persons with disabilities. For information on access or services for individuals with disabilities, contact ERG, 110 Hartwell Avenue, Lexington, MA 02421-3136 by calling 781-674-7374 or toll free at 800-803-2833 (ask for the Hexavalent Chromium peer review coordinator, Laurie Waite); sending a facsimile to 781-674-2906 (reference the “Hexavalent Chromium Peer Review Workshop” and include your name and contact information), or sending an e-mail to meetings@erg.com (reference the “Hexavalent Chromium Peer Review Workshop” and include your name and contact information).

Additional Information: For information on the draft assessment, please contact Ted Berner, National Center for Environmental Assessment (8601P), U.S. Environmental Protection Agency, 1200 Pennsylvania Ave., NW., Washington, DC 20460; telephone: 703-347-8583; facsimile: 703-347-8699; or e-mail: [FRN_Questions@epa.gov].

SUPPLEMENTARY INFORMATION:

I. Information About IRIS

EPA's IRIS is a human health assessment program that evaluates quantitative and qualitative risk information on effects that may result from exposure to chemical substances found in the environment. Through the IRIS Program, EPA provides the highest quality science-based human health assessments to support the Agency's regulatory activities. The IRIS database contains information for more than 540 chemical substances that can be used to support the first two steps (hazard identification and dose-response evaluation) of the risk assessment process. When supported by available data, IRIS provides oral reference doses (RfDs) and inhalation reference concentrations (RfCs) for chronic noncancer health effects and cancer assessments. Combined with specific exposure information, government and private entities use IRIS to help characterize public health risks of chemical substances in a site-specific situation and thereby support risk management decisions designed to protect public health.

Dated: March 31, 2011.
Rebecca Clark,
Acting Director, National Center for Environmental Assessment.

[FR Doc. 2011-8708 Filed 4-11-11; 8:45 am]

BILLING CODE 6560-50-P